FARM CREDIT SYSTEM INSURANCE CORPORATION

Farm Credit System Insurance Corporation Board; Regular Meeting

AGENCY: Farm Credit System Insurance Corporation.

SUMMARY: Notice is hereby given of the regular meeting of the Farm Credit System Insurance Corporation Board (Board).

Date and Time: The meeting of the Board will be held at the offices of the Farm Credit Administration in McLean, Virginia, on June 14, 2012, from 1:00 p.m. until such time as the Board concludes its business.

FOR FURTHER INFORMATION CONTACT: Dale L. Aultman, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available) and parts will be closed to the public. In order to increase the accessibility to Board meetings, persons requiring assistance should make arrangements in advance. The matters to be considered at the meeting are:

Closed Session

• Confidential Report on Farm Credit System Performance

Open Session

A. Approval of Minutes

• April 24, 2012 (Regular Meeting)

B. Business Reports

• FCSIC Financial Reports

• Report on Insured Obligations

• Quarterly Report on Annual Performance Plan

C. New Business

• Policy Statement Concerning Financial Assistance

• Mid-Year Review of Insurance Premium Rates

Dated: June 7, 2012.
Dale L. Aultman,
Secretary, Farm Credit System Insurance Corporation Board.

[FR Doc. 2012-14374 Filed 6-12-12; 8:45 am]

BILLING CODE 6710-01-P